ENVIRONMENTAL PROTECTION AGENCY

40 CFR Part 300

[EPA-HQ-SFUND-2006-0759 FRL-9997-47-Region 5]

National Oil and Hazardous Substances Pollution Contingency Plan; National Priorities List: Partial Deletion of the South Minneapolis Residential Soil Contamination Superfund Site

AGENCY: Environmental Protection Agency (EPA).

ACTION: Direct final rule.

SUMMARY: The Environmental Protection Agency (EPA) Region 5 is publishing a direct final Notice of Partial Deletion of all but nine of approximately 3,632 properties located within the South Minneapolis Residential Soil Contamination Superfund Site in Minnesota from the National Priorities List (NPL). The NPL, promulgated pursuant to Section 105 of the Comprehensive Environmental Response, Compensation, and Liability Act (CERCLA) of 1980, as amended, is an appendix of the National Oil and Hazardous Substances Pollution Contingency Plan. This direct final partial deletion is being published by EPA with the concurrence of the State of Minnesota, through the Minnesota Department of Agriculture, because all appropriate response actions for these 3,623 properties under CERCLA have been completed. However, this partial deletion does not preclude future actions under Superfund. The nine properties not included in this partial deletion will remain on the NPL.

DATES: This direct final partial deletion is effective September 30, 2019 unless EPA receives adverse comments by August 30, 2019. If adverse comments are received, EPA will publish a timely withdrawal of the direct final partial deletion in the Federal Register informing the public that the partial deletion will not take effect.

ADDRESSES: Submit your comments, identified by Docket ID No. EPA-HQ-SFUND-2006-0759 by one of the following methods:

https://www.regulations.gov. Follow on-line instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit https://www2.epa.gov/dockets/commenting-epa-dockets.

Email: cano.randolph@epa.gov

Mail: Randolph Cano, NPL Deletion Coordinator, U.S. Environmental Protection Agency Region 5 (ST-6J), 77 West Jackson Boulevard, Chicago, IL 60604, (312) 886-6036

Hand deliver: Superfund Records Center, U.S. Environmental Protection Agency Region 5, 77 West Jackson Boulevard, 7th Floor South, Chicago, IL 60604, Phone: (312) 886-0900. Such deliveries are only accepted during the Docket's normal hours of operation, and special arrangements should be made for deliveries of boxed information. The normal business hours are Monday through Friday, 8 a.m. to 4 p.m., excluding Federal holidays.

Instructions: Direct your comments to Docket ID no. EPA-HQ-SFUND-2006-0579. EPA's policy is that all comments received will be included in the public docket without change and may be made available online at https://www.regulations.gov, including any personal information provided, unless the comment includes information claimed to be Confidential Business Information (CBI) or other information whose disclosure is restricted by statute. Do not submit information that you consider to be CBI or otherwise protected through https://www.regulations.gov or email. The https://www.regulations.gov website is an “anonymous access” system, which means EPA will not know your identity or contact information unless you provide it in the body of your comment. If you send an email comment directly to EPA without going through https://www.regulations.gov, your email address will be automatically captured and included as part of the comment that is placed in the public docket and made available on the internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the https://www.regulations.gov index. Although listed in the index, some information is not publicly available, e.g., CBI or other information whose disclosure is restricted by statute. Certain other material, such as copyrighted material, will be publicly available only in hard copy. Publicly available docket materials are available either electronically at https://www.regulations.gov or electronically or in hard copy at:

U.S. Environmental Protection Agency, Region 5, Superfund Records Center, 77 West Jackson Boulevard, 7th Floor South, Chicago, IL 60604, Phone: (312) 886-0900, Hours: Monday through Friday, 8 a.m. to 4 p.m., excluding Federal holidays.

Minneapolis Central Library, 300 Nicollet Mall, 2nd Floor, Minneapolis, MN 55401, Phone: (612) 543-8000. Hours: Monday through Thursday, 9 a.m. to 9 p.m., Friday and Saturday, 9 a.m. to 5 p.m. and Sunday, 12 p.m. to 5 p.m.

FOR FURTHER INFORMATION CONTACT: Randolph Cano, NPL Deletion Coordinator, U.S. Environmental Protection Agency Region 5 (ST-6J), 77 West Jackson Boulevard, Chicago, IL 60604, Phone: (312) 886-6036, or via email at cano.randolph@epa.gov.

SUPPLEMENTARY INFORMATION:

Table of Contents

I. Introduction

II. NPL Deletion Criteria

III. Partial Deletion Procedures

IV. Basis for Site Partial Deletion

V. Partial Deletion Action

I. Introduction

EPA Region 5 is publishing this direct final Notice of Partial Deletion for the South Minneapolis Residential Soil Contamination Superfund Site (South Minn. Site), from the NPL. The South Minn. Site includes approximately 3,632 properties located on approximately 1,400 acres within an approximate three-quarter mile radius of the CMC Hearland Lite Yard State Superfund Cleanup Site. This partial deletion pertains to all media at approximately 3,623 of the residential properties, parks, schools, playgrounds associated with church schools and a cemetery located within the South Minn. Site boundary, and excludes the nine properties identified in Table 1 in the Docket that still require sampling and/or remediation due to access issues. The nine properties identified in Table 1 in the Docket will remain on the NPL and are not being considered for deletion as part of this action.

The nine properties that are not included in this partial deletion are shown generally on the figure labeled South Minneapolis Remedial Action and are listed in Table 1 in the Docket and include: Three properties that still require remediation (located on East 23rd Street, East 21st Street and East 22nd Street); five properties that still require sampling [located on East 26th Street, 12th Avenue South (two properties, one of which is now a community garden), 30th Avenue South and 14th Avenue South]; and one partially sampled property located on 19th Avenue South.

Commercial and industrial properties located within the South Minn. Site boundary do not require deletion because these properties are not part of the South Minn. Site and are not on the NPL.

The NPL constitutes Appendix B of the National Oil and Hazardous Substances Pollution Contingency Plan (NCP), which EPA promulgated pursuant to CERCLA. EPA maintains the NPL as the list of sites that appear to present a significant risk to public health, welfare, or the environment. Sites on the NPL may be the subject of remedial actions financed by the Hazardous Substance Superfund (Fund). This partial deletion of the South Minn. Site is proposed in accordance with 40 CFR 300.425(e) and is consistent with the Notice of Policy Change: Partial Deletion of Sites Listed on the National Priorities List. 60 FR 55466 (Nov. 1, 1995). As described in 40 CFR 300.425(e)(3) of the NCP, a portion of a site deleted from the NPL remains eligible for Fund-financed remedial actions if future conditions warrant such actions.

Section II of this document explains the criteria for deleting sites from the NPL. Section III discusses the procedures that EPA is using for this action. Section IV discusses the residential properties, parks, schools, community gardens, playgrounds associated with church schools and the cemetery within the South Minn. Site boundary that are included in this partial deletion and demonstrates how these properties meet the deletion criteria. Section V discusses EPA's action to partially delete all, but nine, properties located within the South Minn. Site boundary from the NPL unless adverse comments are received during the public comment period.

II. NPL Deletion Criteria

The NCP establishes the criteria that EPA uses to delete sites from the NPL. In accordance with 40 CFR 300.425(e), sites, or portions thereof, may be deleted from the NPL where no further response is appropriate. In making such a determination pursuant to 40 CFR 300.425(e), EPA will consider, in consultation with the state, whether any of the following criteria have been met:

i. Responsible parties or other persons have implemented all appropriate response actions required;

ii. all appropriate Fund-financed response under CERCLA has been implemented, and no further response action by responsible parties is appropriate; or

iii. the remedial investigation has shown that the release poses no significant threat to public health or the environment and, therefore, the taking of remedial measures is not appropriate.

Pursuant to CERCLA Section 121(c) and the NCP, EPA conducts five-year reviews to ensure the continued protectiveness of remedial actions where hazardous substances, pollutants, or contaminants remain at a site above levels that allow for unlimited use and unrestricted exposure. EPA conducts such five-year reviews even if a site or a portion of a site is deleted from the NPL. EPA may initiate further action to ensure continued protectiveness at a deleted site if new information becomes available that indicates it is appropriate. Whenever there is a significant release from a site deleted from the NPL, the deleted site may be restored to the NPL without application of the hazard ranking system.

III. Deletion Procedures

The following procedures apply to the deletion of all residential properties, parks, schools, community gardens, playgrounds associated with church schools and the cemetery located within the South Minn. Site boundary excluding the nine properties that still require sampling and/or remediation due to access issues:

(1) EPA consulted with the State of Minnesota prior to developing this direct final Notice of Partial Deletion and the Notice of Intent for Partial Deletion co-published in the “Proposed Rules” section of the Federal Register.

(2) EPA has provided the State 30 working days for review of this notice and the parallel Notice of Intent to Partially Delete prior to their publication today, and the State, through the Minnesota Department of Agriculture (MDA), has concurred on the partial deletion of the South Minn. Site from the NPL.

(3) Concurrent with the publication of this direct final Notice of Partial Deletion, an announcement of the availability of the parallel Notice of Intent for Partial Deletion is being published in a major local newspaper, the Minneapolis Star Tribune. The newspaper notice announces the 30-day public comment period concerning the Notice of Intent for Partial Deletion of the South Minn. Site from the NPL.

(4) The EPA placed copies of documents supporting the partial deletion in the deletion docket and made these items available for public inspection and copying at the South Minn. Site information repositories identified above.

(5) If adverse comments are received within the 30-day public comment period on this partial deletion action, EPA will publish a timely notice of withdrawal of this direct final Notice of Partial Deletion before its effective date and will prepare a response to comments and continue with the deletion process on the basis of the Notice of Intent for Partial Deletion and the comments already received.

Deletion of a portion of a site from the NPL does not itself create, alter, or revoke any individual's rights or obligations. Deletion of a portion of a site from the NPL does not in any way alter EPA's right to take enforcement actions, as appropriate. The NPL is designed primarily for informational purposes and to assist EPA management. Section 300.425(e)(3) of the NCP states that the deletion of a site from the NPL does not preclude eligibility for further response actions, should future conditions warrant such actions.

IV. Basis for Partial Site Deletion

The following information provides EPA's rationale for deleting all residential properties, parks, schools, community gardens, playgrounds associated with church schools and the cemetery located within the South Minn. Site boundary from the NPL, excluding the nine properties that still require sampling and/or remediation:

Site Background and History

The South Minn. Site (MND 000 509 136) is located in Minneapolis, Hennepin County, Minnesota, approximately two miles southeast of downtown Minneapolis. The South Minn. Site includes all residential properties, parks, schools, playgrounds associated with church schools and a cemetery located within an approximate three-quarter mile radius of the CMC Heartland Lite Yard State Superfund Cleanup Site (CMC Site). The CMC Site is located at the northwest corner of Hiawatha Avenue and 28th Street in Minneapolis. Past operations at the CMC Site contaminated the South Minn. Site with arsenic. These past operations are the primary source of the South Minn. Site arsenic contamination. The CMC Site was cleaned up under MDA's State Superfund Cleanup Program in 2004-2005 and redeveloped into a 60,000 square foot light industrial building called the Hiawatha Business Center.

The South Minn. Site is largely a residential area interspersed with commercial and industrial properties, municipal properties including parks and schools, and a cemetery (see Figure 1-1 in the Docket). The South Minn. Site boundary is based on the results of air dispersion modeling which showed the potential area of arsenic deposition from past operations at the CMC Site (see Figure 4-1 in the Docket). The commercial and industrial properties located within the South Minn. Site area are not on the NPL and are not part of the South Minn. Site.

The majority of the homes in the South Minn. Site area were built during the early 1900s through the 1930s. A typical residential block within the South Minn. Site contains approximately 30 properties with an average lot size of approximately 5,500 square feet (0.1 acre). The current land uses at the South Minn. Site have been in place for some time and are expected to continue. Land use at the South Minn. Site is controlled by the City of Minneapolis's enforced zoning program.

The CMC Site property, which is the primary source of the arsenic contamination at the South Minn. Site, was owned by the Chicago, Milwaukee, St. Paul and Pacific Railroad Company (Milwaukee Railroad) beginning in 1880. From 1938 to 1969, Reade Manufacturing Company (Reade) leased the property from the Milwaukee Railroad.

From 1938 to 1963, Reade blended, stored and distributed arsenic herbicides and pesticides at the CMC Site. During the 1940s, Reade also produced an arsenic-based grasshopper insecticide. As part of its operations, Reade regularly unloaded arsenic trioxide from railroad hopper cars onto an open conveyor belt. This caused powdered arsenic trioxide to be released into the air and onto the CMC Site property.

From 1963 to 1968, U.S. Borax subleased the CMC Site property from Reade. U.S. Borax manufactured, shipped and stored borate-based herbicides. U.S. Borax did not receive new shipments of powdered arsenic trioxide, however, its operations at the CMC Site disturbed and dispersed the arsenic contamination that was already present at the property from Reade's operations.

In 1968, a storage tank containing liquid sodium arsenite (NaAs02) ruptured at the CMC Site. This released approximately 3,000 gallons of liquid sodium arsenite from a 25,000-gallon storage tank onto an area of approximately 1,000 square meters. U.S. Borax covered the spill with approximately 6 inches of sand.

After 1968, Rollins Oil Company and then Bituminous Roadways, an asphalt road construction company, occupied the CMC Site. By 1996, after the arsenic contamination was discovered at the CMC Site, Bituminous Roadways placed one to two feet of crushed asphalt over the CMC Site property to minimize human exposure to surface soil and to keep additional dust from blowing off of the property.

The Minnesota Department of Transportation (MnDOT) discovered the arsenic contamination at the CMC Site in 1994 when investigating the Hiawatha Avenue corridor for reconstruction. The MnDOT collected soil samples from the easternmost part of the CMC Site and detected organochlorine pesticides and elevated levels of arsenic in some of the soil borings.

In 1996, CMC Heartland Partners, the CMC Site property owner at the time, began investigating the CMC Site under the oversight of the MDA's Agricultural Voluntary Investigation and Cleanup Program. Later, the State of Minnesota added the CMC Site to the Minnesota Permanent List of Priorities, a list of sites eligible for cleanup under Minnesota's State Superfund Program. In 2003, the MDA formally requested U.S. Borax and CMC Heartland Partners to investigate and cleanup the CMC Site.

U.S. Borax's and CMC Heartland Partner's investigations detected arsenic in surface soil at the CMC Site at concentrations as high as 5,000 mg/kg. Groundwater below the CMC Site contained arsenic concentrations as high as 320,000 micrograms per liter (µg/L). The groundwater contamination extended approximately 1,800 feet west-southwest of the CMC Site.

U.S. Borax and CMC Heartland Partners cleaned up the CMC Site from 2004 to 2005 under the oversight of MDA's Superfund Program. The cleanup included the excavation, stabilization and off-site disposal of contaminated soil and debris from the property and institutional controls to restrict access to residual soil and groundwater contamination remaining at and downgradient of the CMC Site.

There are no private drinking water wells at the CMC Site or within the South Minn. Site area. The City of Minneapolis supplies all drinking water to the area from the Mississippi River. The City of Minneapolis, Minnesota Code of Ordinances Chapter 9, Section 1 requires that all properties within the city connect to the municipal water supply.

The MDH established a Special Well Construction Area (SWCA) to address the arsenic plume from the CMC Site in 2005. The SWCA applies to the construction, repair, and sealing of all wells and will remain in effect until further notice. The SWCA includes the area bounded by East 26th Street on the north, 26th Avenue on the east, Lake Street on the south, and Bloomington Avenue South on the west, within the City of Minneapolis. A copy of MDH's 2005 memorandum concerning the SWCA is available in the Docket.

2800 Hiawatha LLC acquired the CMC Site in 2005. 2800 Hiawatha LLC conducted an additional soil cleanup at the CMC Site under MDA's voluntary cleanup program, now called the AgVIC program, and redeveloped the property into the Hiawatha Business Center. 2800 Hiawatha LLC also monitors the arsenic concentrations in groundwater at the CMC Site.

Due to the elevated concentrations of arsenic at the CMC Site, in 1999, the Minnesota Department of Health (MDH) recommended that soil sampling be performed in residential areas near the CMC Site (part of the area that would come to be known as the South Minn. Site). The prevailing summer winds were determined to be from the southeast toward the northwest; therefore, the residential area located directly downwind of the CMC Site was the focus of this initial sampling effort.

MDA in conjunction with MDH, conducted the initial, limited sampling event at residential properties to the west (crosswind) and northwest (downwind) of the CMC Site in 2001. The results of the 2001 MDA sampling detected arsenic in soil at six of the 11 downwind properties sampled at concentrations as high as 24 to 210 milligrams per kilogram (mg/kg).

Based on the 2001 sampling event and neighborhood concerns, MDA and MDH determined that additional sampling to the northwest and west of the CMC Site was warranted. MDA conducted a second study in 2003. MDA developed the sampling design for the 2003 study to obtain statistically valid data using a grid overlain on the Phillips neighborhood with the majority of the samples falling on residential properties.

MDA's contractor collected soil samples from a total of 242 locations and 167 properties during the 2003 sampling. MDA's contractor additionally collected 12 duplicate samples for quality control and 23 co-located samples to give an indication of spatial variability.

Thirty-five samples collected from 27 of the properties contained arsenic at concentrations greater than or equal to the Minnesota Pollution Control Agency (MPCA) unrestricted land use standard of 10 mg/kg. In 11 of the samples, the concentration of arsenic was greater than 100 mg/kg. Four of those samples contained arsenic at concentrations exceeding 200 mg/kg.

In 2004, MDA requested EPA's assistance to determine whether a time critical removal action was warranted to address the arsenic concentrations detected in the residential soil. EPA agreed to perform an additional investigation. EPA collected samples from 192 properties, primarily in the vicinity of the properties previously identified as hotspots, from a depth of zero to three inches below ground surface.

EPA consulted with the Agency for Toxic Substances and Disease Registry (ATSDR) and determined that arsenic concentrations equal to or greater than 95 mg/kg in surface soil posed an acute risk to human health and warranted an emergency removal action. Based on the results of multiple sampling events conducted in the Phillips neighborhood (the vicinity of East 26th Street and Bloomington Avenue), EPA identified 30 properties that exceeded the 95 mg/kg criterion.

EPA conducted a removal action in 2004 to mitigate the threat. EPA excavated the top 12 inches of soil from the yards and the top 18 inches of soil from play areas and gardens at the 30 identified properties. EPA removed an average of 106 cubic yards of arsenic-contaminated soil from each excavated property. EPA also collected post-excavation soil samples from each property to document the residual arsenic concentrations remaining in each yard after excavation. EPA backfilled each property to pre-existing grade with clean topsoil and seeded the excavated areas with grass seed.

In 2005, EPA sampled 540 additional properties in the Phillips neighborhood to ensure that 100 percent of the residential properties most likely to be impacted by wind deposition from the CMC Site were evaluated for potential impacts. EPA also sampled another 60 properties to identify whether areas in other wind directions surrounding the CMC Site were impacted.

EPA's sampling effort identified another 31 properties with arsenic concentrations above 95 mg/kg. EPA began a second removal action in 2005. During the 2005 removal action, EPA excavated and disposed of arsenic-contaminated soil consistent with the 2004 removal activities.

Due to the potential health risks posed to residents from exposure to arsenic-contaminated soil, EPA proposed the South Minn. Site to the NPL on September 27, 2006 (71 FR 56433). EPA finalized the South Minn. Site on the NPL on September 19, 2007 (72 FR 53463).

This partial deletion pertains to all media at all properties located within the boundary of the South Minn. Site except for nine properties that still require sampling and/or remediation due to access issues (see Section I., Introduction, above). This partial deletion also pertains to all media at all parks, schools, community gardens (except the community garden located on 12th Avenue South that is one of the nine properties that still requires sampling and/or remediation), playgrounds associated with church schools and the cemetery located within the South Minn. Site boundary.

The nine properties that still require sampling and/or remediation as shown generally on the figure labeled South Minneapolis Remedial Action and as listed in Table 1 in the Docket will remain on the NPL and are not being considered for deletion as part of this action.

Commercial and industrial properties located within the South Minn. Site boundary do not require deletion because these properties are not part of the South Minn. Site and are not on the NPL.

Remedial Investigation and Feasibility Study (RI/FS)

EPA conducted a Remedial Investigation (RI) at the South Minn. Site from 2005 to 2007. The objective of the RI was to have 100 percent of the residential properties, schools and parks within the modeled boundaries of the South Minn. Site sampled for total arsenic. EPA also collected soil samples for arsenic analysis from community gardens, playgrounds associated with church schools and a cemetery.

EPA developed the boundary for the South Minn. Site using the Industrial Source Complex 3 air dispersion model, information from past operations at the CMC Site and wind-rose data for Minneapolis to predict where arsenic may have been deposited in soil at concentrations greater than 10 mg/kg. EPA made slight adjustments to the modeled boundary so that an entire block would be sampled (see Figure 4-1).

EPA did not include previously sampled properties in the RI surface soil sampling unless only one discrete sample had been collected from that property. The RI also did not address groundwater. Groundwater was previously investigated and is being addressed as part of the CMC Site (see Site Background and History section).

EPA conducted the RI surface soil sampling in 2006. EPA conducted the sampling by collecting five samples from separate areas of each property and combining them into one composite sample for analysis. EPA collected the soil samples from the top three inches of soil, below any grass if present. EPA collected the soil samples from both the front yard and the back yard wherever possible. EPA also collected samples from side yards and gardens depending on their size. For larger properties, such as parks and schools, EPA divided the property into sub-areas and collected composite samples from each sub-area.

The RI also included subsurface soil sampling at 20 soil boring locations throughout the South Minn. Site. The subsurface soil borings were located to provide data to characterize the vertical distribution of arsenic at properties with varying arsenic concentrations. EPA collected subsurface soil samples from each boring at one foot intervals from zero to five feet, and at a depth of ten feet.

The surface soil sampling locations are shown in Figure 3-1 in the Docket. The subsurface soil sampling locations are shown in Figure 3-2.

EPA evaluated the 2006 soil sampling results against the previous soil sampling results collected from 2001 to 2005. EPA determined that the data were compatible and could be evaluated as a single data set for the RI. The total number of properties sampled for arsenic from 2001 to 2006 was 3,578. One-hundred and thirty-five properties within the South Minn. Site remained unsampled because the property owners did not allow EPA access.

The results of the surface and subsurface soil investigations at the South Minn. Site indicated that arsenic was present in the soil at varying concentrations at properties across the area (see Figure 4-2 in the Docket). The RI included a statistical evaluation which determined that the background concentration of arsenic in surface soil from natural and man-made sources within the South Minn. Site area was 16 mg/kg.

Arsenic concentrations within the South Minn. Site ranged from background concentrations up to 2,880 mg/kg. The vertical extent of arsenic concentrations above background appeared to be no greater than three feet below ground surface and, in most cases, was within the upper two feet of soil. This indicated that that the mobility of the arsenic in the soil was limited.

Of the 3,578 properties sampled, the majority of residential properties (2,600 properties) had arsenic concentrations below MPCA's unrestricted land use standard of 10 mg/kg. Seven-hundred and eighty-one residential properties contained concentrations of arsenic below EPA's removal action level for arsenic of 95 mg/kg, but above MPCA's unrestricted land use standard of 10 mg/kg. One-hundred and ninety-seven residential properties had arsenic concentrations in soil above EPA's removal action level of 95 mg/kg.

The properties with arsenic concentrations above EPA's removal action level of 95 mg/kg were scattered throughout the South Minn. Site area. EPA addressed these properties through removal actions EPA completed by 2008. All sample results from the schools, parks, playgrounds and the cemetery were within background levels and these properties did not require remediation.

EPA's RI included a Human Health Risk Assessment (HHRA) to evaluate the risks to human health from the arsenic contamination detected at the South Minn. Site. As part of the HHRA, EPA calculated potential risks due to varying concentrations of arsenic at residences with and without vegetable gardens, and for construction workers.

Using reasonable maximum exposure assumptions, EPA determined that an arsenic concentration of up to 25 mg/kg (or less) in soil is protective of adults and children residing within the South Minn. Site area for up to 50 years with vegetable gardens. This concentration of arsenic corresponds to a cancer risk of 1 × 10⁻⁴ and a noncancer hazard of 1, which are within EPA's acceptable risk range. Approximately 486 homes exceeded the 25 mg/kg residential threshold. The HHRA determined that arsenic concentrations of 261 mg/kg (or less) are protective of construction workers.

The HHRA estimated that most of the risk posed by the soil is due to the incidental ingestion of soil and dust (approximately 70 percent), and to eating garden vegetables (approximately 25 percent). A small proportion of the estimated risk (approximately 4 percent) is from dermal contact with soil, and a very small relative proportion of potential risk (less than 0.05 percent) is from the inhalation of dust. The calculated risks to residents and construction workers are likely overestimated due to the uncertainties and conservative assumptions required throughout the HHRA process.

The RI included a Screening Level Ecological Risk Assessment (SLERA) to evaluate potential risks to ecological receptors from the arsenic-contaminated soil at the South Minn. Site. The SLERA concluded that no population-level ecological risks were expected from the arsenic contamination. In addition, EPA's Ecological Soil Screening Levels for arsenic of 43 mg/kg for avian wildlife and 46 mg/kg for mammalian wildlife were higher than the 25 mg/kg concentration of arsenic determined to be protective of people. There are no water bodies or wetlands within the South Minn. Site.

EPA conducted a Feasibility Study (FS) to develop and evaluate cleanup alternatives to address the unacceptable levels of arsenic found at the South Minn. Site. The FS evaluated six cleanup alternatives: (1) No action; (2) remove soil with arsenic levels above 25 mg/kg to a depth of 12 inches (18 inches in garden areas); (3) remove soil with arsenic levels above 16 mg/kg to a depth of 12 inches (18 inches in garden areas); (4) remove soil with arsenic levels above 25 mg/kg to a depth of 12 inches (18 inches in garden areas) and remove soil deeper than 12 inches with arsenic levels above 95 mg/kg; (5) remove all soil with arsenic levels above 25 mg/kg; and (6) remove all soil with arsenic levels above 16 mg/kg. For all cleanup alternatives except the no action alternative, the excavated soil would be disposed of at landfill.

Selected Remedy

EPA selected a cleanup remedy for the South Minn. Site in a 2008 Record of Decision (ROD). EPA's remedial action objectives for the arsenic-contaminated soil at the South Minn. Site are to control the concentrations of arsenic in soil to limit residential contact with arsenic and minimize the potential for dermal contact, ingestion and inhalation exposures.

EPA's selected cleanup standards for arsenic are 25 mg/kg for soil located zero to 12 inches below grade or to 18 inches below grade in gardens, and 95 mg/kg for soil down to a depth of 10 feet below grade. These concentrations of arsenic correspond to a cancer risk of 1 × 10⁻⁴ and a noncancer hazard of 1 for residential exposure to surface soil and a cancer risk of 2 × 10⁻⁵ and a noncancer hazard of 0.4 for construction worker exposure to subsurface soil.

The subsurface soil cleanup standard of 95 mg/kg corresponds to a cancer risk of 4 × 10⁻⁴ and a noncancer hazard of 4 to residents. However, residential exposure to deep, subsurface concentrations of arsenic is only expected in rare circumstances and for short periods of time, and less frequently than a construction worker. Any risks from exposure to arsenic contamination in deep soil would also be mitigated through the inevitable mixing of the deep soil with the clean, shallow soil above, resulting in lower exposure point concentrations. Therefore, EPA considered the 95 mg/kg acute exposure-based removal action level provided by ATSDR to be appropriate for subsurface soil and protective over the long-term.

As indicated in the HHRA, most of the risk at the South Minn. Site was due to the incidental ingestion of soil and dust by residents and to residents eating garden vegetables. A small proportion of the estimated risk is from dermal contact with soil, and a very small relative proportion of potential risk is due to inhalation of dust. EPA's remedial action objectives for the South Minn. Site take into consideration that control of the soil concentrations of arsenic will address each of the exposure pathways contributing to the overall risk.

The selected remedy in the ROD applied only to the residential and residential-type properties at the South Minn. Site. The commercial and industrial properties in the area typically had little open ground and were mainly covered by asphalt, concrete or buildings which limited the potential for soil exposure.

The major components of EPA's selected cleanup remedy for the South Minn. Site in the ROD, as modified by a slight, non-significant change documented in a September 23, 2009 EPA memorandum include: (1) Inventory and document the existing conditions at the areas requiring the remedy; (2) excavate soil to a depth of 12 inches below grade in yards or to a depth of 18 inches below grade in garden areas that have a total arsenic concentration above 25 mg/kg; (3) post-excavation soil sampling to document arsenic concentrations in the remaining soil; (4) if the samples at the base of the excavation exceed the deep soil arsenic cleanup standard of 95 mg/kg, then excavate soil until the deep soil cleanup standard is met or to a maximum depth of ten feet; (5) if the samples at the base of the excavation exceed the deep soil arsenic cleanup standard, place a permanent, permeable highly-visible marker layer in the bottom of the excavation to provide a visual barrier over soils that were not excavated during the remedial actions and may contain residual contamination above the deep soil cleanup standard; (6) backfill excavations with clean fill and topsoil to the original grade; (7) restore the excavated areas (i.e., restoring vegetation by seeding the final graded surface and planting replacement plants identified prior to excavation during the inventory); (8) collect samples from excavated soil to confirm the soil is not characteristically hazardous and may be transported to and disposed of at a permitted and compliant Resource Conservation Recovery Act (RCRA) Subtitle D landfill; (9) if soil is found to be characteristically hazardous, the soil may be stabilized and solidified at a centralized off-site treatment area and disposed of a RCRA Subtitle D landfill, or not stabilized and disposed of as a hazardous waste at a RCRA Subtitle C landfill; and (10) place institutional controls (ICs) on properties where the arsenic cleanup standard was not met at the bottom of the excavation in the form of use-restrictions to define areas of remaining concern or zoning and permit requirements to limit exposure.

Response Actions

EPA conducted the Remedial Design (RD) phase of the South Minn. Site cleanup from 2008 to 2009. EPA conducted the majority of the Remedial Action (RA) construction work for the South Minn. Site from 2009 to 2011. In 2016 and 2018, EPA conducted additional remedial activities and/or sampling at properties where EPA was not previously able to obtain the owners' consent for access.

EPA conducted the RA activities independently at each remediated property, but sequenced the work so that the contractor could move to nearby area as access to properties became available. The typical RA activities conducted at each property included: (1) Pre-construction survey; (2) plant inventory; (3) preconstruction property owner meetings; (4) locating utilities; (5) clearing and grubbing; (6) soil excavation; (7) transport and disposal; (8) post-excavation sampling and survey; (9) backfill placement; (10) topsoil placement; (11) restoration; (12) post-construction survey; (13) landscaping; (14) punch list activities; and 15) post-construction property owner meetings.

EPA implemented dust control measures throughout the RA to minimize potential hazards associated with airborne respirable dust. Dust control measures at residential properties included keeping the soil wet, hand sweeping the sidewalks and streets adjacent to the remediated properties, and using a vacuum truck to sweep streets daily during earthwork activities. Dust control measures at the Hennepin Avenue laydown yard included covering soil piles except when being loaded/unloaded, partial covering during loading/unloading as practicable, water spray for any visible dust, wetting and vacuuming pavement, using a rumble strip to remove dirt on trucks, inspecting trucks and full stormwater collection.

EPA performed health and safety monitoring during construction to determine the effectiveness of the dust control measures and to assess potential risks to human health. EPA used field dust monitors to compare respirable dust concentrations at residential properties and at the laydown yard with site-specific exposure limits. EPA considered a 15-minute average limit of 1.6 milligrams per cubic meter (mg/m³) to be protective of dust inhalation based on a maximum arsenic concentration of 385 mg/kg in soil. EPA calibrated the monitors daily and stationed them upwind and downwind of excavation activities at each property and at the laydown yard.

A few isolated exceedances of the dust criteria occurred during soil remediation activities, but each of the exceedances was caused by monitoring anomalies, such as instrument calibration errors, construction equipment exhausting into the monitor, monitors falling to the ground, or exceedances at upwind monitoring locations not attributable to construction activities. Additionally, the dust limit was modeled based on an arsenic concentration of 385 mg/kg, which was generally an order of magnitude greater than the actual concentrations of arsenic at the properties or at the laydown yard. When considering the actual arsenic concentrations present at these properties and the laydown yard relative to the modeled concentration of 385 mg/kg, the construction activities did not appear to have caused an unacceptable risk due to dust inhalation. This is supported by monitoring performed at the Hennepin laydown yard. EPA analyzed a limited set of dust samples for arsenic to confirm that exposure limits were not exceeded and arsenic was not detected in any of the samples.

EPA also compared dust monitoring readings to the particulate matter maximum 24-hour primary and secondary criteria of 0.26 mg/m³ and 0.15 mg/m³, respectively, per Minnesota Administrative Rule 7009.0080. Dust monitoring indicated a limited number of exceedances of the primary and secondary particulate matter standards, but the readings appeared to be due to the monitoring anomalies as discussed above, and are not believed to represent actual exceedances.

EPA performed the RA in accordance with the ROD with a few minor exceptions. In a few instances, based on a property owner's request or physical construction limitations, a small area of a property was not excavated even though the arsenic concentration in that area was above the surface soil cleanup level of 25 mg/kg. EPA determined that these areas did not present an unacceptable risk when evaluating the property as a whole; therefore these properties meet the criteria for partial deletion. These properties include:

(1) One property located on 11th Ave. South (front yard, arsenic concentration 31 mg/kg). The file review indicates the front yard was not cleaned up during the earlier removal action. EPA determined that remedial action was not required given the small size of the yard and the arsenic concentration relative to the cleanup limits. The area-weighted average arsenic concentration for the property is 15.6 mg/kg, which is below the surface soil cleanup level of 25 mg/kg.

(2) A property located on 15th Ave. South (around a tree, arsenic concentration 33 mg/kg). No remediation was performed due to the limited extent of the soil area. The tree was encircled by concrete and excavation could not be performed while maintaining a safe distance from the tree trunk (so as to not harm the tree).

(3) A property located on 19th Ave. South (garden area, arsenic concentration 51.2 mg/kg). After the yard was sampled and before the cleanup could occur, the yard was re-landscaped and a permanent structure was built in the garden area. Thus, it could not be accessed for cleanup.

(4) A property located on 20th Ave. South (garden area, arsenic concentrations of 25.7, 38, and 39.4 mg/kg). EPA determined that remedial action was not required given the small size of the garden area and the arsenic concentrations relative to the cleanup limits. The area-weighted average arsenic concentration for this property is 14.4 mg/kg, which is below the surface soil cleanup level of 25 mg/kg.

By 2011, EPA had completed the soil cleanup at a total of 611 properties: 137 properties remediated through EPA's Emergency Removal Program prior to 2009 that did not require additional response; 56 properties that underwent an Emergency cleanup but required additional soil cleanup during the RA; two properties cleaned up by a developer after entering into an agreement with EPA; and 416 properties requiring an RA soil cleanup only.

During the 2009 to 2011 RA, EPA was not able to complete the sampling and/or remediation at 54 properties due to access issues. These properties included (1) 14 properties that exceeded the cleanup criteria for arsenic, but could not be remediated because the property owners did not respond to requests for access or refused to provide EPA with access to clean up their property; (2) nine properties that EPA was not able to obtain permission to sample to determine whether they are contaminated with arsenic; and (3) 31 residential properties that could not be completely sampled because portions of the yards were inaccessible due to fenced areas with no entrance provided, locked gates, pets in the yard, etc. during the RI.

EPA and MDA contacted the owners of the 54 unsampled and/or unremediated properties in 2016 and 2018 to provide the property owners with another opportunity to allow EPA to complete the sampling and/or cleanup activities. By 2018, EPA was able to remediate 12 additional properties (one by EPA's Removal Program in 2018), and determine that 33 of the 40 unsampled or partially sampled properties had arsenic concentrations below the cleanup level and did not require remediation.

As of 2018, all, but nine, properties within the South Minn. Site have been remediated and/or sampled and determined to be below cleanup standards. The nine properties that EPA was not able to remediate and/or sample (due to access issues) are shown generally on the figure labeled South Minneapolis Remedial Action and listed in Table 1 in the Docket and include: Three properties that still require remediation (located on East 23rd Street, East 21st Street and East 22nd Street); five properties that still require sampling [located on East 26th Street, 12th Avenue South (two properties, one of which is now a community garden), 30th Avenue South and 14th Avenue South]; and one partially sampled property located on 19th Avenue South. These nine properties are not included as part of the South Minn. partial deletion and will remain on the NPL.

EPA demobilized from the South Minn. Site in 2011, then again in 2016 and 2018 after completing the construction and sampling activities for all, but nine, properties at the South Minn. Site. Reports documenting the completion of the RA for the properties included in this partial deletion are available in the Docket in the following reports: 2012 Final Remedial Action Report; 2016 Final Remedial Action Report; 2018 Data Evaluation Report; 2014 Five-Year Review and 2019 Five-Year Review.

Cleanup Levels

The cleanup standards for the South Minn. Site arsenic contamination in the ROD are 25 mg/kg for soil located zero to 12 inches below grade or 18 inches below grade in gardens and 95 mg/kg for soil down to a depth of 10 feet below grade. EPA confirmed that the cleanup levels were met at each excavation during the 2009 to 2011 RA using field x-ray fluorescence (XRF) followed by laboratory confirmation sampling.

Based on a statistical analysis EPA conducted during the RD, EPA determined that the lower 95 percent confidence interval for a laboratory arsenic result of 95 mg/kg was an XRF reading of 62 mg/kg. For a laboratory result of 25 mg/kg, the lower 95 percent confidence interval was an XRF reading of 8 mg/kg, and the upper 95 percent confidence interval was an XRF reading of 44 mg/kg. During the RA, XRF readings above 62 mg/kg were considered to be above the 95 mg/kg cleanup level and further excavation was performed. XRF sample detections in surface soil above 44 mg/kg were considered to be above the 25 mg/kg cleanup level and additional excavation was performed. If XRF sample results in surface soil were between 8 mg/kg and 44 mg/kg, EPA submitted the soil sample for laboratory analysis to determine whether additional excavation was required.

After the lower extent of an excavation was reached, EPA collected a 5-point composite sample from the excavation floor for laboratory analysis. The laboratory analysis indicated that all excavated yards were determined to be below the surface and subsurface cleanup criteria of based on the XRF readings and confirmed by the post-excavation analytical results. EPA submitted post-excavation confirmation samples for each excavation area at each property to provide 100 percent laboratory verification. In all instances, the confirmation results from the laboratory confirmed the determination that the excavation was complete based on the XRF readings. The placement of demarcation fabric and ICs were not required in any excavation.

During the RD and the 2009 to 2011 RA, EPA resampled properties that were cleaned up between 2004 and 2008 by the Emergency Removal Program at a depth of 1 foot below ground surface if the 2004 to 2008 post-excavation results were greater than the subsurface criteria of 95 mg/kg. EPA used the results to assess if re-excavation was necessary during the RA. Based on this evaluation, EPA determined that additional soil excavation was required at 56 properties.

The post-excavation confirmation sampling results from the 2004 to 2008 removal actions and the 2009 to 2011 RA are included in Appendix D-3 of the 2012 Final Remedial Action Report in the Docket.

During the 2016 RA, EPA conducted delineation sampling during predesign activities prior to construction in lieu of post-excavation confirmation sampling. A summary of the investigation activities and delineation sampling results for the 2016 RA is provided in the 2018 Data Evaluation Report in the Docket.

Operation and Maintenance

There is no operation, maintenance or monitoring at the properties included in this partial deletion. All of the properties included in this partial deletion meet the cleanup standards for surface and subsurface soils in the ROD, as confirmed through investigation, delineation and/or confirmation sampling. These properties have either been cleared for unrestricted use/unlimited exposure (UU/UE) or returned to UU/UE through the excavation and off-site disposal of contaminated soil. Because EPA returned these properties to UU/UE, institutional controls to limit land use are not required.

Nine properties have not been sampled and/or remediated due to access issues. These properties are not included in this partial deletion. EPA provided the owners of the three properties with known arsenic contamination above criteria with information concerning the health risks and practices to minimize contact with soil contaminants. EPA also worked with the City of Minneapolis to ensure that utility and construction workers, and prospective buyers are put on notice of the contaminant levels at these properties.

All Minneapolis property owners are required, by City of Minneapolis (City) Code of Ordinances Section 248.30, to disclose to potential buyers environmental testing performed on the property by or under the direction of EPA or other governmental agencies. All Minneapolis rental property owners are also required, by City Code of Ordinances Title 12 Section 244.275, to: (1) Notify tenants of environmental testing results and (2) to cooperate with EPA regarding any necessary cleanup.

Added protection is also provided by the City in the form of a flag in their city permits databases for the three properties with contamination above cleanup levels to ensure that: (1) Rental permits are not issued for the properties, and (2) utility and construction workers are notified of the presence of contamination when a building or construction permit is sought for these properties until cleanups occur.

In April 2019, EPA and MDA contacted the owners of the nine properties that still require sampling and/or remediation to request access, but EPA's and MDA's requests for access continued to be denied. If EPA cannot obtain consent for access for sampling and/or remediation after continued efforts, EPA may pursue recorded ICs in the future on the uncooperative properties and/or may pursue other options for requiring access.

Five-Year Reviews

The ROD requires EPA to conduct statutory five-year reviews (FYRs) for the South Minn. Site if cleanup standards are still exceeded at the maximum practicable excavation depth at a property, resulting in hazardous substances, pollutants or contaminants remaining above levels that allow for UU/UE. Because EPA could not sample and/or remediate nine properties at the South Minn. Site, EPA is required to conduct statutory FYRs of the South Minn. Site until these remaining properties are either sampled and cleared for UU/UE or remediated.

EPA conducted the first FYR of the South Minn. Site in 2014. EPA conducted the most recent FYR for the South Minn. Site in May 2019. The 2019 FYR concluded that the remedy at the South Minn. Site is protective of human health and the environment because immediate threats have been addressed and the remedy is functioning as intended by the ROD.

The FYR confirms that the arsenic cleanup standards were met at the bottom of each excavation for all properties that were remediated, with the exception of four properties where minor areas of soil above criteria were left in place based on a property owner's request or physical construction limitations. EPA reviewed the information for these properties (provided in the 2012 RA Report) during the 2014 and 2019 FYRs and determined that these residual areas of soil contamination did not present an unacceptable risk when evaluating each property as a whole. (See the Response Actions section above).

The 2019 FYR concluded that for the three contaminated properties that still require remediation (not included as part of this partial deletion) effective governmental ICs are in place. Also, the FYR site inspection did not find any changes in land use at these properties that would cause an unacceptable risk. The contaminated soil at these properties is generally in lawn areas and covered by grass. Sampling throughout the South Minn. Site also demonstrates that the arsenic is generally not mobile and will not affect neighboring properties.

During the 2019 FYR, EPA and MDA contacted the owners of the three properties that still require remediation and the owners of the six properties that still require sampling to obtain access and were again refused (these properties are not included as part of this partial deletion). If EPA cannot obtain consent for access for sampling and/or remediation after continued efforts, EPA may pursue recorded ICs in the future on the uncooperative properties and/or may pursue other options for requiring access.

EPA will conduct the next FYR at the South Minn. Site on or before May 2023. If EPA is able to complete the sampling and any necessary remediation at the nine remaining properties at the South Minn. Site, however, EPA will propose to delete the South Minn. Site from the NPL in its entirety and FYRs will no longer be required.

Community Involvement

EPA actively engaged with the community and strived to advocate and strengthen early and meaningful community participation throughout EPA's remedial activities at the South Minn. Site, satisfying the provisions of Sections 113(k) and 117 of CERCLA, 42 U.S.C. 9613(k) and 9617.

EPA developed a Community Involvement Plan (CIP) for the South Minn. Site in July 2005. The CIP outlined the community involvement activities that EPA conducted and would continue to undertake during the remedial activities planned for the South Minn. Site.

Since 2004, the year that EPA became involved with the South Minn. Site, EPA held 22 public meetings and availability sessions about the South Minn. Site investigations and cleanup. EPA held major meetings at the YWCA located at 2121 East Lake Street in Minneapolis, and other meetings at other locations throughout the affected area in an effort to make the meetings more available to all of the communities impacted by the South Minn. Site. EPA held meetings at Powderhorn Park, the Franklin Avenue Safety Center, and the Minneapolis Public Library Lake Street Branch.

EPA issued its proposed cleanup plan for the South Minn. Site and held a public comment period on its proposal from June 2, 2008 to July 1, 2008. EPA also held a public meeting on June 11, 2008 at the YWCA to discuss the contamination at the South Minn. Site, the cleanup alternatives being considered, and to answer questions and accept public comments on the proposed cleanup plan. Approximately 40 people attended the meeting. EPA received approximately 31 public comments during the comment period.

EPA mailed out post cards announcing the public meetings and fact sheets updating the community on the status of the project throughout the entire removal and remedial process. EPA sent mailings out to approximately 10,000 homes. Because of the multi-lingual nature of the area EPA translated the mailings into four languages: English, Spanish, Hmong and Somali. EPA eventually limited the translations to English and Spanish, but continued to make Hmong and Somali translations available upon request.

EPA developed and maintained public local information repositories for the South Minn. Site at four locations: (1) Green Institute, 2801 21st Ave. S, Suite 100, Minneapolis, MN; (2) City of Minneapolis Police Department, 1201-B E Franklin Ave., Minneapolis, MN; (3) Minneapolis Central Library, 300 Nicollet Mall, 2nd Floor Minneapolis, MN; and (4) Minneapolis Public Library, East Lake Branch, 2727 E Lake St., Minneapolis, MN. EPA also developed and maintains a web page for the South Minn. Site located at: http://epa.gov/region5/sites/cmcheartland.

EPA involved state and local government officials in the 2014 and 2019 FYR process by notifying them at the start of the FYR. EPA interviewed the former 9th Ward Alderman of the City of Minneapolis, the Minneapolis City Engineer, and an MDH Environmental Research Scientist during the 2014 FYR and included summaries of the interviews in the FYR Report. EPA conducted the 2014 and 2019 FYR site inspections jointly with MDA project staff and provided MDA an opportunity to review and provide input on the FYRs.

EPA notified the community about the 2014 FYR by publishing a newspaper announcement in the Minneapolis Southside Pride at the start of the FYR. The newspaper announcement invited the community to submit any concerns about the South Minn. Site to EPA and directed the community to EPA contacts and the South Minn. Site's web page for additional information. EPA notified the community about the 2019 FYR by publishing a newspaper announcement in the Minneapolis Star Tribune.

EPA made copies of the 2014 and 2019 FYR Reports available on the internet and at the information repository located at the Minneapolis Central Library.

EPA satisfied public participation activities for this partial deletion of the South Minn. Site as required by CERCLA section 113(k), 42 U.S.C. 9613(k), and CERCLA section 117, 42 U.S.C. 9617. EPA published a document announcing this proposed direct final Partial Deletion and announcing the 30-day public comment period in the Minneapolis Star Tribune concurrent with publishing this partial deletion in the Federal Register.

Documents in the deletion docket, which EPA relied on for recommending the partial deletion of the South Minn. Site from the NPL, are available to the public in the information repositories and at http://www.regulations.gov. Documents in the Docket include maps which identify the South Minn. Site boundary, the contamination detected at the South Minn. Site and the nine properties that are not included as part of this partial deletion, which are also listed in Table 1 in the Docket.

Determination That the Criteria for Partial Deletion Have Been Met

All properties located within the boundary of the South Minn. Site except for the nine properties that still require sampling and/or remediation due to access issues meet all of the site completion requirements specified in Office of Solid Waste and Emergency Response (OSWER) Directive 9320.22, Close-Out Procedures for National Priorities List Sites for all media. The properties that are not included in this partial deletion are shown generally on the figure labeled South Minneapolis Remedial Action and are listed in Table 1 in the Docket and include: Three properties that still require remediation (located on East 23rd Street, East 21st Street and East 22nd Street); five properties that still require sampling [located on East 26th Street, 12th Avenue South (two properties, one of which is now a community garden), 30th Avenue South and 14th Avenue South]; and one partially sampled property located on 19th Avenue South. All parks, schools, community gardens (except the community garden located on 12th Avenue South that is one of the nine properties that still requires sampling and/or remediation), playgrounds associated with church schools and the cemetery located within the South Minn. Site boundary also meet all of the site completion requirements specified in Office of Solid Waste and Emergency Response (OSWER) Directive 9320.22, Close-Out Procedures for National Priorities List Sites for all media.

All cleanup actions and remedial action objectives for the properties included in this partial deletion as set forth in the ROD have been implemented for all pathways of exposure. The selected remedial action, remedial action objectives and associated cleanup levels for surface and subsurface soil for these properties are consistent with EPA policy and guidance. No further Superfund response is necessary to protect human health or the environment at the residential properties, parks, schools, community gardens, playgrounds associated with church schools or the cemetery located within the boundary of the South Minn. Site, excluding the nine properties that still require sampling and/or remediation.

Section 300.425(e) of the NCP states that a Superfund site or a portion of a site may be deleted from the NPL when no further response action is appropriate. EPA, in consultation with the State of Minnesota, has determined that all required response actions have been implemented for all residential properties, parks, schools, community gardens, playgrounds associated with church schools and the cemetery located within the boundary of the South Minn. Site, except for the nine properties that still require sampling and/or remediation, and that no further response action by EPA is appropriate for these properties.

V. Deletion Action

EPA, with concurrence of the State of Minnesota, through the MDA, has determined that all appropriate response actions under CERCLA have been completed for all residential properties, parks, schools, community gardens, playgrounds associated with church schools and the cemetery located within the boundary of the South Minn. Site, excluding the nine properties that still require sampling and/or remediation. Therefore, EPA is deleting all residential properties, parks, schools, community gardens, playgrounds associated with church schools and the cemetery located within the boundary within the boundary of the South Minn. Site from the NPL except for the nine properties that still require sampling and/or remediation.

Because EPA considers this action to be noncontroversial and routine, EPA is taking it without prior publication. This action will be effective September 30, 2019 unless EPA receives adverse comments by August 30, 2019. If adverse comments are received within the 30-day public comment period, EPA will publish a timely notice of withdrawal of this direct final Notice of Partial Deletion before its effective date and the partial deletion will not take effect. EPA will prepare a response to comments and continue with the deletion process on the basis of the notice of intent to partially delete and the comments already received. There will be no additional opportunity to comment.

List of Subjects in 40 CFR Part 300

Environmental protection, Air pollution control, Chemicals, Hazardous waste, Hazardous substances, Intergovernmental relations, Penalties, Reporting and recordkeeping requirements, Superfund, Water pollution control, Water supply.

Dated: July 19, 2019.
Cheryl Newton,
Acting Regional Administrator, Region 5.

For the reasons set out in this document, 40 CFR part 300 is amended as follows:

PART 300—NATIONAL OIL AND HAZARDOUS SUBSTANCES POLLUTION CONTINGENCY PLAN

1. The authority citation for part 300 continues to read as follows:

Authority: 33 U.S.C. 1321(d); 42 U.S.C. 9601-9675; E.O. 13626, 77 FR 56749, 3 CFR, 2013 Comp., p. 306; E.O. 12777, 56 FR 54757, 3 CFR, 1991 Comp., p. 351; E.O. 12580, 52 FR 2923, 3 CFR, 1987 Comp., p. 193.

2. Table 1 of Appendix B to part 300 is amended by revising the entry under “South Minneapolis Residential Soil Contamination”, “MN” to read as follows:

Appendix B to Part 300—[Amended]

Table 1—General Superfund Section
State | Site name | City/county | Notes (a)
* * * * * * *
MN | South Minneapolis Residential Soil Contamination | Minneapolis | P
* * * * * * *
(a) * * *
* P = Sites with partial deletion(s).

[FR Doc. 2019-16192 Filed 7-30-19; 8:45 am]

BILLING CODE 6560-50-P